DEPARTMENT OF JUSTICE

Office of Justice Programs

Agency Information Collection Activities: Proposed Collection; Comments Requested

Action: 60-day notice of information collection under review: OVC TTAC User Feedback Form.

The Department of Justice (DOJ), Office of Justice Programs, has submitted the following information collection request to the Office of Management and Budget (OMB) for review and approval in accordance with the Paperwork Reduction Act of 1995. The proposed information collection is published to obtain comments from the public and affected agencies. Comments are encouraged and will be accepted for “sixty days” until March 9, 2004. This process is conducted in accordance with 5 CFR 1320.10.

If you have comments especially on the estimated public burden or associated response time, suggestions, or need a copy of the proposed information collection instrument with instructions or additional information, please contact Emily Martin, Acting Director, Technical Assistance, Publications, and Information Resources, Office for Victims of Crime, Office of Justice Programs, U.S. Department of Justice, 810 7th Street, NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New Collection.

(2) Title of the Form/Collection: OVC TTAC User Feedback Form.

(3) Agency form number, if any, and the applicable component of the Department of Justice sponsoring the collection: Form Number: T-100. Y-200, T-300, G-100, G-200, and G-300, Office of Justice Programs (OJP), Department of Justice.

(4) Affected public who will be asked or required to respond, as well as a brief abstract: Primary: State, local, tribal government. Other: Federal Government. Individuals or households, not-for-profit institutions, businesses or other for-profit. The Office for Victims of Crime Training and Technical Assistance Center (OVC TTAC) Feedback Form Package is designed to collect the data necessary to continuously improve customer service intended to meet the needs of the victim service field. OVC TTAC will send these forms to technical assistance (TA) recipients, to capture important feedback on the recipient's satisfaction with the quality, efficiency, referrals, and resources of the OVC TTAC. The data will then be used to advise OVC TTAC on ways to improve the support that OVC TTAC provides to its users and the victim service field at-large.

(5) An estimate of the total number of respondents and the amount of time estimated for an average respondent to respond: There are approximately 16,492 respondents who will require an average of 3-10 minutes to respond to a single form.

(6) An estimate of the total public burden (in hours) associated with the collection: There are approximately 1,561 annual burden hours associated with this collection.

If additional information is required contact Brenda E. Dyer, Deputy Clearance Officer, United States Department of Justice, Justice Management Division, Policy and Planning Staff, Patrick Henry Building, Suite 1600 601 D Street NW., Washington, DC 20530.

Dated: December 31, 2003.
Brenda E. Dyer,
Deputy Clearance Officer, Department of Justice.

[FR Doc. 04-421 Filed 1-8-04; 8:45 am]

BILLING CODE 4410-18-P